DEPARTMENT OF DEFENSE

Department of the Army

Notice of Program Comment for Capehart and Wherry Era Army Family Housing and Associated Structures and Landscape Features (1949-1962), from the Advisory Council on Historic Preservation

AGENCY: Department of the Army, DoD.

ACTION: Notice of comment.

SUMMARY: This provides notice of the Advisory Council on Historic Preservation's Program Comment to the Department of the Army for Capehart and Wherry Era Army Family Housing and Associated Structures and Landscape Features (1949-1962), in accordance with 36 CFR 800.14(e)(5)(i), “Protection of Historic Properties; Final Rule.”

ADDRESSES: To obtain copies of the Program Comment, contact the U.S. Army Environmental Center, ATTN: SFIM-AEC-PA (Mr. Robert DiMichele), Aberdeen Proving Ground, MD 21010-5401.

FOR FURTHER INFORMATION CONTACT: Mr. Lee Foster, 703-693-0675.

SUPPLEMENTARY INFORMATION: On May 31, 2002, the Advisory Council on Historic Preservation approved and issued to the Department of the Army, Program Comment for Capehart and Wherry Era Army Family Housing and Associated Structures and Landscape Features (1949-1962). The Program Comment pertains to all Army family housing constructed between 1949 and 1962 (i.e., the Capehart and Wherry Era), and includes treatment measures for the following undertakings for Capehart and Wherry Era housing, associated structures, and landscape features: maintenance and repair; rehabilitation; layaway and mothballing; renovation, demolition; demolition and replacement; and transfer, sale or lease out of Federal control. The Department of the Army has taken into account the Advisory Council on Historic Preservation's Program Comment for Capehart and Wherry Era (1949-1962) Army Family Housing, Associated Structures, and Landscape Features, and accepts and adopts that Program Comment. The Department of the Army ensures that the effects of these undertakens on this category of historic property is taken into account by execution of the steps identified as treatment measures in the Program Comment, Section II.b. Treatment measures include an expanded Historic Context of Capehart and Wherry Era Army Family Housing, Neighborhood Design Guidelines, and Video Documentation. The full text of the Program Comment can be found in the Council's Notice of Approval, published in the Federal Register on June 7, 2002, Vol. 167, No. 110, pp. 39332-39335.

Dated: March 25, 2002.
Raymond J. Fatz,
Deputy Assistant Secretary of the Army (Environment, Safety and Occupational Health), OASA (I&E).

[FR Doc. 03-8122 Filed 4-2-03; 8:45 am]

BILLING CODE 3710-08-M